DEPARTMENT OF HEALTH AND HUMAN SERVICES

Substance Abuse and Mental Health Services Administration

Agency Information Collection Activities: Proposed Collection; Comment Request

In compliance with Section 3506(c)(2)(A) of the Paperwork Reduction Act of 1995 concerning opportunity for public comment on proposed collections of information, the Substance Abuse and Mental Health Services Administration (SAMHSA) will publish periodic summaries of proposed projects. To request more information on the proposed projects or to obtain a copy of the information collection plans, call the SAMHSA Reports Clearance Officer on (240) 276-1243.

Comments are invited on: (a) Whether the proposed collections of information are necessary for the proper performance of the functions of the agency, including whether the information shall have practical utility; (b) the accuracy of the agency's estimate of the burden of the proposed collection of information; (c) ways to enhance the quality, utility, and clarity of the information to be collected; and (d) ways to minimize the burden of the collection of information on respondents, including through the use of automated collection techniques or other forms of information technology.

Proposed Project: Co-location and Integration of HIV Prevention and Medical Care Into Behavioral Health Program-NEW

The Substance Abuse and Mental Health Services Administration's (SAMHSA) Center for Mental Health Services, (CMHS), Center for Substance Abuse Prevention (CSAP), Center for Substance Abuse Treatment (CSAT) are requesting approval from the Office of Management and Budget (OMB) for new data collection activities associated with their Co-location and Integration of HIV Prevention and Medical Care into Behavioral Health Program. The program is designed to support integrated behavioral health and physical health services for racial/ethnic populations at high risk for behavioral health disorders and at high risk for contracting HIV.

This information collection is needed to provide SAMHSA with objective information to document the reach and impact of the Co-location and Integration of HIV Prevention and Medical Care into Behavioral Health program. The information will be used to monitor quality assurance and quality performance outcomes for organizations funded by this grant program. The information will also be used to assess the impact of services on behavioral health and physical health services for individuals served by this program.

Collection of the information included in this request is authorized by Section 505 of the Public Health Service Act (42 U.S.C. 290aa-4)—Data Collection. Further support for the program was provided in the 2013 Senate Appropriations Report 113-71. The report urged SAMHSA to “focus its efforts on building capacity and outreach to individuals at risk or with a primary substance abuse disorder and to improve efforts to identify such individuals to prevent the spread of HIV.” Additional support for this data collection effort is provided by the 2013 National HIV/AIDS Strategy which instructed SAMHSA to “support and rigorously evaluate the development and implementation of new integrated behavioral health models to address the intersection of substance use, mental health, and HIV.”

The table below reflects the annualized hourly burden.

Instrument | Number of respondents | Number of responses per respondent | Total number of responses | Hours per response per respondent | Total burden hours
HIV Testing Form | 5,000 | 1 | 5,000 | 0.13 | 650
Co-Located and Integrated Care Tool—Baseline
Clients with HIV Receiving Integrated Medical Services | 200 | 1 | 200 | 0.58 | 117
Individuals only Receiving Prevention Services | 1,000 | 1 | 1,000 | 0.12 | 120
Co-Located and Integrated Care Tool—Follow Up
Clients with HIV Receiving Integrated Medical Services ² | 120 | 1 | 120 | 0.58 | 69.6
Co-Located and Integrated Care Tool—Discharge
Clients with HIV Receiving Integrated Medical Services—Interview with Client ³ | 28 | 1 | 28 | 0.58 | 16.2
Clients with HIV Receiving Integrated Medical Services—Interview with Client—Client not available—Administrative Data Only ⁴ | 42 | 1 | 42 | 0.33 | 13.9
Individuals only Receiving Prevention Services ⁵ | 800 | 1 | 800 | 0.06 | 48
HIV Indicators—Baseline
Clients with HIV Receiving Integrated Medical Services | 200 | 1 | 200 | 0.33 | 66
Clients with HIV Receiving Integrated Medical Services | 120 | 1 | 120 | 0.25 | 30
Annual Total | 5,000 |  | 7,510 |  | 1,143

Send comments to Summer King, SAMHSA Reports Clearance Officer, Room 2-1057, One Choke Cherry Road, Rockville, MD 20857 or email her a copy at summer.king@samhsa.hhs.gov. Written comments should be received by June 24, 2014

Summer King,
Statistician.

[FR Doc. 2014-09407 Filed 4-24-14; 8:45 am]

BILLING CODE 4162-20-P